DEPARTMENT OF THE INTERIOR

Office of Natural Resources Revenue

30 CFR Parts 1206 and 1210

[Docket No. ONRR-2015-0002; DS63610000 DR2PS0000.CH7000 156D0102R2]

Technical Conference

AGENCY: Office of Natural Resources Revenue (ONRR), Interior.

ACTION: Notification of technical conference.

SUMMARY: ONRR will convene a technical conference on November 20, 2015, to discuss two issues: (1) The appropriate boundary line between the North Fort Berthold and South Fort Berthold Designated Areas and adding additional counties to one or both of the two Designated Areas in the Uintah and Ouray Reservation.

Date And Address: ONRR will hold two sessions for the technical conference. The first session will be held in person on November 20, 2015, at 9:00 a.m. Mountain Time in Denver, Colorado. The location will be at the Office of Natural Resources Revenue, Denver Federal Center, 6th Avenue and Kipling Street, Building 85, Auditoriums A-D, Denver, Colorado 80226.

The second session will be a teleconference on November 20, 2015, at 2:00 p.m. Mountain Time. To call into the second session please call 1-866-778-1299, and use participant code 5826518.

To RSVP for either one of these two sessions, please email Elizabeth Dawson at lisa.dawson@onrr.gov or call (303) 231-3653.

If you cannot participate in either session and would like to provide comments, please email us at ONRRIndianOilRuleQuestions@onrr.gov by November 30, 2015.

FOR FURTHER INFORMATION CONTACT: Elizabeth Dawson, ONRR, telephone (303) 231-3653, or email at lisa.dawson@onrr.gov.

SUPPLEMENTARY INFORMATION: Under the new Indian oil valuation amendments (80 FR 24794—May 1, 2015), ONRR uses designated areas to calculate index-based major portion prices for lessees to comply with the major portion provisions in their leases. Designated areas are those areas ONRR identifies as unique based on their location and crude type produced from Indian lands. When ONRR proposed the new Indian oil valuation amendments (79 FR 35102—June 19, 2014), we proposed sixteen initial Designated Areas. Generally, these Designated Areas were the Indian reservation boundaries. However, there are five Designated Areas that are not the reservation boundaries: Oklahoma; North Fort Berthold; South Fort Berthold; Uintah & Ouray: Uintah and Grand Counties; and Uintah and Ouray: Duschene County.

Under the new Indian Oil Valuation Amendments—and in order to modify or change an existing Designated Area—ONRR must convene a technical conference. See 30 CFR 1206.51. In implementing the rule, ONRR discovered two potential issues: (1) The preamble describes the dividing line between the North Fort Berthold Designated Area and the South Fort Berthold Designated Area as the “Little Missouri River;” at the technical conference, ONRR would like to discuss whether the Little Missouri River or the county lines that follow the Missouri River is the appropriate boundary between the North Fort Berthold and South Fort Berthold Designated Areas. (2) ONRR found at least one Indian lease that is in Wasatch County in the Uintah and Ouray Reservation. In addition, ONRR identified two other counties in the Uintah and Ouray Reservation that do not currently have Indian leases: Carbon and Emery Counties. However these Counties could have Indian leases in the future. Because the current designated areas list only includes Uintah, Duchesne, and Grand Counties on the Uintah and Ouray Reservation, ONRR would like to discuss adding Wasatch County to the Uintah and Ouray—Duchesne County Designated Area. ONRR would also like to discuss whether to include Carbon and Emery Counties in either the Uintah and Ouray—Uintah and Grand Counties or Uintah and Ouray—Duchesne County Designated Areas.

ONRR will not consider or discuss other issues associated with these or other designated areas at the technical conference.

We encourage stakeholders and members of the public to participate in one of the two conference sessions. The conference sessions will be open to the public without advance registration. However, attendance may be limited to the space available. Each attendee will be required to present a valid picture ID in order to gain entry into the Denver Federal Center and Building 85.

Dated: October 14, 2015.
Gregory J. Gould,
Director, Office of Natural Resources Revenue.

[FR Doc. 2015-27250 Filed 10-28-15; 8:45 am]

BILLING CODE 4335-30-P